DEPARTMENT OF THE INTERIOR

Central Utah Project Completion Act

AGENCY: Department of the Interior, Office of the Assistant Secretary—Water and Science.

ACTION: Notice of Availability of the Finding of No Significant Impact associated with the Environmental Assessment for the East Juab Water Efficiency Project—Phase II, Juab County, Utah.

SUMMARY: On January 8, 2010, the Department of the Interior (Interior) signed a Finding of No Significant Impact (FONSI) which documents the selection for implementation of Alternative 1 as presented in the Final Environmental Assessment (EA) for the East Juab Water Efficiency Project—Phase II, Juab County, Utah.

ADDRESSES: Copies of the Final EA and FONSI are available for inspection at:

• Central Utah Water Conservancy District, Attention Sarah Sutherland 355 West University Parkway, Orem, Utah 84058-7303.

• Department of the Interior, Attention Lee Baxter, Central Utah Project Completion Act Office, 302 East 1860 South, Provo, Utah 84606.

In addition, the document is available at http://www.cuwcd.com.

FOR FURTHER INFORMATION: Additional information may be obtained by contacting Mr. Lee Baxter at (801) 379-1174, or by e-mail at lbaxter@uc.usbr.gov.

SUPPLEMENTARY INFORMATION: Interior has determined that implementing Alternative 1 as described in the EA will not have a significant impact on the quality of the human environment and that an environmental impact statement is not required.

This project anticipates the rehabilitation of several existing wells, installation of additional booster pump capability, extension of associated distribution system pipelines and overhead power lines, and development and implementation of a supervisory control and data acquisition system.

Also anticipated is the construction of a bypass pipeline along a segment of Spring Creek channel to reduce loss of water during the late irrigation season period of water shortage, and perforated infiltration pipelines to recharge water to the groundwater basin at other times.

These actions are proposed to be taken in order to more efficiently utilize existing ground-water supplies in conjunction with existing surface water supplies.

The Bonneville Unit of the Central Utah Project was authorized to develop central Utah's water resources. Both the 1987 Final Supplement to the Final Environmental Impact Statement for the Municipal and Industrial System, Bonneville Unit, Central Utah Project and the 2004 Supplement to the 188 Definite Plan Report for the Bonneville Unit anticipated additional water development in East Juab County. Under the authority of Section 202 of the Central Utah Project Completion Act (Pub. L. 102-575), the Secretary of the Interior oversees Bonneville Unit water development, and specifically has authority to provide cost share associated with Conjunctive Use investigations and projects.

Dated: January 12, 2010.
Reed R. Murray,
Program Director, Central Utah Project Completion Act, Department of the Interior.

[FR Doc. 2010-3651 Filed 2-23-10; 8:45 am]

BILLING CODE 4310-RK-P